DEPARTMENT OF ENERGY

Federal Energy Regulatory Commission

Combined Notice of Filings #2

Take notice that the Commission has received the following Natural Gas Pipeline Rate and Refund Report filings:

Filings in Existing Proceedings

Docket Numbers: PR26-2-001.

Applicants: Bull Run Pipeline LLC.

Description: § 284.123(g) Rate Filing: Amendment to Statement of Operating Conditions to be effective 9/26/2025.

Filed Date: 12/8/25.

Accession Number: 20251208-5233.

Comment Date: 5 p.m. ET 12/29/25.

Docket Numbers: PR26-3-001.

Applicants: Buffalo Run Pipeline LLC.

Description: § 284.123(g) Rate Filing: Amendment to Statement of Operating Conditions to be effective 9/26/2025.

Filed Date: 12/8/25.

Accession Number: 20251208-5239.

Comment Date: 5 p.m. ET 12/29/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 9, 2025.
Carlos D. Clay,
Deputy Secretary.

[FR Doc. 2025-22644 Filed 12-11-25; 8:45 am]

BILLING CODE 6717-01-P